DEPARTMENT OF TRANSPORTATION

Federal Aviation Administration

14 CFR Part 71

[Docket No. FAA-2011-0116; Airspace Docket No. 11-ANE-1]

Establishment of Class E Airspace; Brunswick, ME

AGENCY: Federal Aviation Administration (FAA) DOT.

ACTION: Final rule; correction.

SUMMARY: This action corrects the effective date of a final rule correction, that was published in the Federal Register on July 6, 2011. The effective date in that Final Rule; Correction. inadvertently listed the wrong effective date in the Correction to Final Rule section.

DATES: Effective Date: 0901 UTC, July 28, 2011.

FOR FURTHER INFORMATION CONTACT: John Fornito; telephone (404) 305-6364.

Correction to Final Rule; Correction

In final rule FR Doc 2011-16783, on page 39259 in the Federal Register of July 6, 2011 (76 FR 39259), make the following correction:

On page 39259, in the second column, in the Correction to Final Rule section, in the second paragraph, remove the dates August 28, 2011, and July 25, 2011, and replace them with the dates August 25, 2011, and July 28, 2011.

Issued in Washington, DC on July 8, 2011.
Rebecca B. MacPherson,
Assistant Chief Counsel for Regulations.

[FR Doc. 2011-17978 Filed 7-18-11; 8:45 am]

BILLING CODE 4910-13-P